DEPARTMENT OF VETERANS AFFAIRS

Advisory Committee on Chiropractic Care Implementation; Notice of Meeting

The Department of Veterans Affairs (VA) gives notice under Public Law 92-463 (Federal Advisory Committee Act) that the Advisory Committee on Chiropractic Care Implementation will meet Tuesday, March 29, 2005, from 8:15 a.m. until 5 p.m. and Wednesday, March 30, 2005 from 8:15 a.m. until 4 p.m. at 810 Vermont Avenue NW., Room 230, Washington, DC 20420. The meeting is open to the public.

The purpose of the Committee is to provide advice to the Secretary of Veterans Affairs on the implementation and evaluation of the chiropractic care program. The Committee will focus on monitoring the nationwide program implementation, reviewing and evaluating policy and program issues that affected implementation, recommending actions to improve the chiropractic health program, assisting in long-range planning and development, and such other matters as the Secretary determines to be appropriate.

On March 29, the Committee will receive an update on the status of VA's implementation of the chiropractic care program and briefing on related topics. On March 30, the Committee will discuss and provide input on evaluation of the chiropractic care program.

Any member of the public wishing to attend the meeting is requested to contact Ms. Sara McVicker, RN, MN, Designated Federal Officer, at (202) 273-8558 no later than 12 noon Eastern time on Thursday, March 24, in order to facilitate access to the meeting site.

Oral comments from the public will not be accepted at the meeting. Any comments from interested parties on issues related to chiropractic care may be transmitted electronically to sara.mcvicker@mail.va.gov or mailed to: Chiropractic Advisory Committee, Medical Surgical Services SHG (111), U.S. Department of Veterans Affairs, 810 Vermont Avenue NW., Washington, DC 20420.

Dated: February 28, 2005.
By direction of the Secretary.
E. Philip Riggin,
Committee Management Officer.

[FR Doc. 05-4516 Filed 3-8-05; 8:45 am]

BILLING CODE 8320-01-M